DEPARTMENT OF THE INTERIOR

Bureau of Indian Affairs

Special Law Enforcement Commissions

AGENCY: Bureau of Indian Affairs, Interior.

ACTION: Notice.

SUMMARY: This notice announces the online publication of the Interim Special Law Enforcement Commission Policy, Rules and Procedures, the Interim Special Law Enforcement Commission Protocols and the Interim Domestic Violence Waiver that will be used by the Office of Justice Services following passage of the Tribal Law and Order Act of 2010. The documents are published on the Indian Affairs Web site.

DATES: The Interim Special Law Enforcement Commission Policy, Rules and Procedures, the Interim Special Law Enforcement Commission Protocols and the Interim Domestic Violence Waiver are effective on January 25, 2011.

FOR FURTHER INFORMATION CONTACT: Charles Addington, Bureau of Indian Affairs, Office of Justice Services, 1849 C Street, NW., Washington, DC 20240; Telephone (202) 208-5787.

SUPPLEMENTARY INFORMATION: The Tribal Law and Order Act of 2010 calls for publication of the Interim Special Law Enforcement Commission Policy, Rules and Procedures, the Interim Special Law Enforcement Commission Protocols and the Interim Domestic Violence Waiver. The documents are being published for interim use on the Indian Affairs Web site at http://www.bia.gov/WhoWeAre/BIA/OJS/index.htm. The documents were the subject of tribal consultation in November and December 2010. The Office of Justice Services continues consultation on the Tribal Law and Order Act of 2010 and expects to publish the documents in final form once the tribal consultation ends.

The documents provide for the deputation of law enforcement officers employed by tribes, States and subdivisions of States. Deputized officers are authorized to assist the Bureau of Indian Affairs in its duties to provide law enforcement services and to make lawful arrests in Indian country within the jurisdiction of the tribe.

Dated: January 20, 2011.
Larry Echo Hawk,
Assistant Secretary—Indian Affairs.

[FR Doc. 2011-1588 Filed 1-24-11; 8:45 am]

BILLING CODE 4310-4J-P